DEPARTMENT OF THE INTERIOR

National Park Service

Fishery Management Plan, Draft Environmental Impact Statement, Biscayne National Park, FL

AGENCY: National Park Service, Interior.

ACTION: Notice of Availability of a Draft Environmental Impact Statement for the Fishery Management Plan, Biscayne National Park.

SUMMARY: Pursuant to the National Environmental Policy Act (NEPA) of 1969, 42 U.S.C. 4332(2)(C), the National Park Service (NPS) announces the availability of a Draft Environmental Impact Statement (DEIS) for the Fishery Management Plan (FMP) for Biscayne National Park, Florida.

DATES: The NPS will accept comments on the DEIS from the public for 60 days from the date the Environmental Protection Agency notices the availability of the DEIS in its regular Friday Federal Register listing. Public meetings will be held during the review period to facilitate submission of public comment. Once scheduled, meeting dates will be announced via (1) park mailings, (2) the park's website (http://www.nps.gov/bisc/), (3) a press release to area media, and (4) announcements in area newspapers.

ADDRESSES: Information will be available for public review and comment online at the NPS Planning, Environment and Public Comment site (http://parkplanning.nps.gov), and in the office of Mark Lewis, Superintendent of Biscayne National Park, 9700 SW. 328th Street, Homestead, Florida 33033.

SUPPLEMENTARY INFORMATION: In response to a variety of scientific data sources that indicated declining fisheries resources in Biscayne National Park, the NPS held public and stakeholder meetings and consulting party meetings to gather advice and feedback on the current status of the park's fisheries resources and the desired outcomes for the future management of fisheries resources in Biscayne National Park. The State of Florida's Fish and Wildlife Conservation Commission (FWS) is serving as a cooperating agency. The NPS also received recommendations from a working group formed under the authority of the Florida Keys National Marine Sanctuary Advisory Council. The NPS coordinated with representatives of State and Federal agencies and local universities to examine current scientific data on fisheries resources in Biscayne National Park. The outcomes of the public meetings, working group meetings, and inter-agency meetings were collectively incorporated into the development of alternatives for the DEIS for the FMP and the selection of the NPS's preferred alternative.

The range of alternatives identified in the DEIS for the FMP includes actions that could reasonably be implemented given the legislative and legal requirements under which the NPS operates. The No-Action Alternative, Alternative 1—Maintain Status Quo, represents no change in specific management approaches or the type of actions the NPS has taken in the past. The four action alternatives (Alternatives 2 to 5) represent progressively increasing levels of change from current regulations and management approaches, and thus would result in differing future levels of fishery resources and gear-related habitat impacts in Biscayne National Park. Each alternative is summarized below.

Alternative 1, Maintain Status Quo: The No-Action Alternative serves as a basis of comparison with the other alternatives. Alternative 1 is characterized by the continuation of current fisheries management according to the park's enabling legislation, the established NPS management policies and existing authorities, and in conjunction with State fishery regulations. No regulatory changes would be triggered by the establishment of the FMP. Regulatory changes would occur only if mandated by the State of Florida FWS following its normal rule-making process, or through the Federal regulatory and public review process.

Alternative 2, Maintain at or Above Current Levels: A minor change from current management strategies would occur. Management actions would be enacted (in conjunction with the State of Florida FWS) to maintain Biscayne National Park's fisheries resources at or above currently existing levels. As needed, management actions would be implemented (in conjunction with the State of Florida FWS) and could include moderate increases in minimum harvest sizes, moderate decreases in bag limits, and seasonal and/or spatial closures. Numbers of commercial fishers would remain at current levels or decrease over time, and fishing-related habitat impacts would be reduced. Additional park-specific regulations and management actions would be enacted to maintain current levels only if levels of fish stocks or recreational fishing experience decline, or if fishing-related habitat impacts increase.

Alternative 3, Improve Over Current Levels: A moderate change from current management strategies would seek a balance between enjoyment, extraction, and conservation of fishery resources. Management actions would be enacted (in conjunction with the State of Florida FWS) to increase the abundance and average size of fishery-targeted species within the park by at least 10 percent over existing conditions. A range of management actions to achieve the desired resource status would be considered, and include moderate increases in minimum harvest sizes, moderate decreases in bag limits, and seasonal and/or spatial closures. Under this alternative, lobster mini-season would be eliminated in the park and regulations would be enacted to prohibit the use of an air supply or gear with a trigger mechanism while spearfishing. Numbers of commercial fishers would remain at current levels or decrease over time, and fishing-related habitat impacts would be reduced. Under this and all subsequent alternatives, the park would require a recreational use permit for all boats engaged in any recreational activity (such as fishing or diving); the permit would not be required for boaters passing through, but not recreating in, the park (e.g. traveling the Intracoastal Waterway). This alternative would require implementation of new regulations governing fishing activities within the park that would be accomplished through collaboration with State of Florida FWS and further public input.

Alternative 4, Rebuild and Conserve Park Fisheries Resources: A considerable change from current management strategies would seek a balance between enjoyment, extraction, and conservation of fishery resources, while ensuring sustainable fishing activities. Management actions would be enacted (in conjunction with the State of Florida FWS) to increase the abundance and average size of fishery-targeted species within the park by at least 20 percent over existing conditions, as well as to reduce fishing-related habitat impacts. Possible management actions to achieve substantial improvement of fisheries resources could include considerable increases in minimum size limits, designation of slot limits, substantial decreases in bag limits, and seasonal and/or spatial closures. Under Alternative 4, lobster mini-season would be eliminated in the park and regulations would be enacted to prohibit the use of an air supply or gear with a trigger mechanism while spearfishing. Numbers of commercial fishers would decrease over time via establishment of a non-transferable permit system. As in Alternative 3, the park would require a recreational use permit for all boats engaged in any recreational activity (such as fishing or diving); the permit would not be required for boaters passing through, but not recreating in, the park (e.g., traveling the Intracoastal Waterway). This alternative would require considerable changes to current fishing regulations within the park, and would be accomplished through collaboration with State of Florida FWC and further public input.

Alternative 5, Restore Park Fisheries Resources: This would require substantial changes from current management strategies in order to return the sizes and abundance of targeted species to within 20 percent of their estimated, historic (pre-exploitation) levels and to prevent further decline in fishing-related habitat impacts. Possible management actions to achieve the desired conditions would be enacted in conjunction with the State of Florida FWS and could include substantial increases in minimum size limits, designation of slot limits, substantial decreases in bag limits, seasonal and/or spatial closures, prohibition of extractive fishing (i.e. only allowing catch-and-release fishing), and a temporary moratorium on all fishing activity within the park. Under this alternative, lobster mini-season would be eliminated in the park and regulations would be enacted to prohibit spearfishing within the park. Numbers of commercial fishers would decrease over time via establishment of a non-transferable permit system. As in Alternatives 3 and 4, the park would require a recreational use permit for all boats engaged in any recreational activity (such as fishing or diving); the permit would not be required for boaters passing through, but no recreating in, the park (e.g., traveling the Intracoastal Waterway). Among the five alternatives, this alternative would require the most extreme changes to current fishing regulations within the park, and the changes to the park's fishing regulations would be accomplished through collaboration with the State of Florida FWS and further public input.

Alternative 4, Rebuild and Conserve Park Fisheries Resources, has been identified as the NPS's “preferred alternative” because it results in the most equitable balance between protection, enjoyment, and extraction of the park's fisheries resources. The NPS believes that Alternative 4 will allow for fishing activities to continue at a sustainable level that does not compromise the long-term health of the park's fisheries resources. Additionally, following NEPA, the NPS has identified Alternative 5, Restore Park Fisheries Resources, as the “environmentally preferred alternative” because it causes the least damage to the biological and physical environment and best protects, preserves, and enhances historic, cultural, and natural resources. Through identification of the “environmentally preferred alternative,” NPS decision-makers and the public are faced with the relative merits of each alternative and must clearly state the values and policies used throughout the decision-making process.

If you wish to comment on the FMP, you may submit your comments by any one of several methods. You may mail comments to Fishery Management Plan, Biscayne National Park, 9700 SW. 328th Street, Homestead, Florida 33033. You may also comment via the Internet at http://parkplanning.nps.gov. If you do not receive a confirmation from the system that we have received your Internet message, contact BISC Fisheries at 305-230-1144. Finally, you may hand-deliver comments to Biscayne National Park, 9700 SW. 328th Street, Homestead, Florida 33033. Before including your address, phone number, e-mail address, or other personal identifying information in your comment, you should be aware that your entire comment—including your personal identifying information—may be made publicly available at any time. While you can ask us in your comment to withhold your personal identifying information from public review, we cannot guarantee that we will be able to do so.

FOR FURTHER INFORMATION CONTACT: Biscayne National Park, 9700 SW. 328th Street, Homestead, Florida 33033; Telephone 305-230-1144; or BISC Fisheries@nps.gov.

The authority for publishing this notice is contained in 40 CFR 1506.6

The responsible official for this Draft EIS is the Regional Director, Southeast Region, National Park Service, 100 Alabama Street, SW., 1924 Building, Atlanta, Georgia 30303.

Art Frederick,
Acting Regional Director, Southeast Region.

[FR Doc. E9-18754 Filed 8-4-09; 8:45 am]

BILLING CODE 4310-70-P